DEPARTMENT OF AGRICULTURE

Forest Service

Plan Development for Kiowa, Rita Blanca, Black Kettle and McClellan Creek National Grasslands, Colfax, Harding, Mora and Union Counties, NM; Dallam, Gray and Hemphill Counties, TX; Cimarron and Roger Mills Counties, OK

AGENCY: Forest Service, USDA.

ACTION: Notice of intent to prepare an environmental impact statement in conjunction with development of a new land and resource management plan.

SUMMARY: As directed by the National Forest Management Act (NFMA), the USDA Forest Service (FS) is preparing the Kiowa, Rita Blanca, Black Kettle and McClellan Creek National Grasslands land and resource management plan (plan) and will also prepare an environmental impact statement (EIS) for this new plan. Currently, the National Grasslands named above receive management direction from the 1985 Cibola National Forest plan. However, the new plan will provide direction specific to the National Grasslands only, while the 1985 plan will continue to provide direction for the forested, mountain districts of the Cibola National Forest until it is revised in the future. This notice briefly describes the nature of the decision to be made; the proposed action (the new plan) and need for change from the 1985 plan specific to the National Grasslands, and information concerning public participation in the new plan development. It also provides estimated dates for filing the EIS and the names and addresses of the responsible agency official and the individuals who can provide additional information. Finally, this notice briefly describes the applicable planning rule and how work done on the plan revision under the 2008 planning rule will be used or modified for completing this plan revision.

Thus, the new plan will supersede, for the National Grassland units only, the plan previously approved by the Regional Forester on July 15, 1985 and as amended. The 1985 plan amendments relative to the National Grasslands designated new electronic sites; identified eligible Wild and Scenic Rivers; addressed travel management issues and oil and gas leasing stipulations, and the need for additional Management Indicator Species (MIS). The 1985 amended plan will remain in effect for the National Grasslands until the new plan takes effect. When the Record of Decision for the new Kiowa, Rita Blanca, Black Kettle and McClellan Creek National Grasslands plan and Environmental Impact Statement (EIS) and Final Plan is signed by the Responsible Official, the 1985 plan will be amended after 30 days have passed to remove only those portions that apply to the National Grasslands. Again, the 1985 plan as currently amended will still apply to the rest of the Cibola National Forest until it is revised.

DATES: Comments concerning the need for change provided in this notice will be most useful in the development of the new plan and draft EIS if received by February 15, 2010. The agency expects to release a draft Grasslands plan and draft EIS for formal comment by fall 2010 and a final National Grasslands plan and final EIS by summer 2011. See the SUPPLEMENTARY INFORMATION—Public Involvement section for information on future public meeting dates.

ADDRESSES: Send written comments to: Cibola National Forest, 2113 Osuna Rd. NE., Albuquerque, NM 87113. Comments may also be sent via e-mail to comments-grasslandsplan@fs.fed.us.

FOR FURTHER INFORMATION CONTACT: Champe Green (Forest Planner), Cibola National Forest and Grasslands, 2113 Osuna Rd., NE., Albuquerque, NM 87113; champegreen@fs.fed.us; (505) 346-3900. Information on this new plan is also available at Cibola National Grasslands Web site: http://www.fs.fed.us/r3/cibola/plan-revision/national_grasslands/index.shtml.

Individuals who use telecommunication devices for the deaf (TDD) may call the Federal Information Relay Service (FIRS) at 1-800-877-8339 between 8 a.m. and 8 p.m., Eastern Time Monday through Friday.

SUPPLEMENTARY INFORMATION:

Name and Address of the Responsible Official

Corbin Newman, Regional Forester, Southwestern Region, 333 Broadway SE., Albuquerque, NM 87102.

Nature of the Decision To Be Made

The Kiowa, Rita Blanca, Black Kettle and McClellan Creek National Grasslands, managed by the Cibola National Forest, are preparing an EIS to develop a new plan pertaining to the National Grasslands portion of the Forest only. The EIS process is meant to inform the Regional Forester so that he can decide which National Grasslands plan alternative best meets the need to achieve quality land management under the sustainable multiple-use management concept, meet the diverse needs of people, and conserve the National Grasslands' resources, as required by the NFMA and the Multiple Use Sustained Yield Act (MUSYA).

The new plan will describe the strategic intent of managing the National Grasslands into the next 10 to 15 years and will address the need for change described below. The new plan will provide management direction in the form of goals (desired conditions), objectives, suitability determinations, standards, guidelines, and a monitoring plan, including identification of MIS. It may also make new special area recommendations for wilderness, research natural areas, and other special areas.

As important as the decisions to be made is the identification of the types of decisions that will not be made within the new plan. The authorization of project-level activities on the National Grasslands is not a decision made in the National Grasslands plan but occurs through subsequent project specific decision-making. The designation of routes, trails, and areas for motorized vehicle travel is not considered during plan development, but is addressed in the concurrent, but separate, Environmental Assessment (EA) for public motorized travel planning on the Kiowa and Rita Blanca National Grasslands and the Motor Vehicle Use Map for the Black Kettle and McClellan Creek National Grasslands. Some issues (e.g., hunting regulations), although important, are beyond the authority or control of the National Grasslands and will not be considered. In addition, some issues, such as wild and scenic river suitability determinations, may not be undertaken at this time but addressed later as a future National Grasslands plan amendment. The National Grasslands will also not change the August 2008 plan amendment for oil and gas stipulations, and these standards will be carried forward in the new plan as they are currently stated in the amended 1985 plan.

Need for Change and Proposed Action

According to the NFMA, plans are to be revised on a 10 to 15 year cycle. The purpose and need for developing a new National Grasslands plan is: (1) The 1985 plan does not address many of the unique local features of the National Grasslands because it was developed primarily for the forested, mountain districts of the Cibola National Forest; (2) the 1985 plan is over 20 years old, and (3) since 1985, there have been changes in economic, social, and ecological conditions, new policies and priorities, and new information generated by monitoring and scientific research.

Extensive public, agency, and interagency collaborations, along with science-based evaluations, have identified the need for change in the 1985 plan by developing a National Grasslands-specific plan. This need for change has been organized into three topics that focus on the sustainability of ecological, social, and economic systems: (1) Ecosystem Diversity, (2) Managed Recreation, and (3) Human Influences on the National Grasslands. The need for change is described fully through an Analysis of Management Situation (AMS), which is comprised of the Comprehensive Evaluation Report (CER) and its supplement, both of which are available on the Forest's Web site: http://www.fs.fed.us/r3/cibola/plan-revision/national_grasslands/index.shtml.

The proposed action is to develop a new National Grasslands-specific plan that addresses the above three topics.

Topic 1—Ecosystem Diversity

Since the 1985 plan was implemented, ecological monitoring and new scientific information have advanced the agency's knowledge and understanding of vegetation and its range of historical variation, ecological processes, and habitat requirements of native fauna of the National Grasslands. Similarly, since 1985, new issues have emerged, such as the unwelcome introduction of non-native plants and animals and changes in climate.

• The vegetation types found on the National Grasslands are altered remnants of what were once found across the southern Great Plains. In the new plan, there is a need to provide management direction that will maintain or accelerate movement of vegetation types toward conditions within the historical range of variation (HRV), recognizing that past events may limit the ability to achieve full restoration.

• There are invasive plants present on the National Grasslands that have the potential to affect ecosystem structure, composition, and processes. Currently, there are no known invasive animals. The new plan needs to provide management direction addressing the unwelcome introduction, spread, and control of invasive plants and animals.

• The new plan needs to provide direction on anticipating and responding to changes in the climate, relative to National Grasslands management.

• During the new plan development, there may be a need to reevaluate and update the MIS list. MIS are species whose population trends could possibly indicate the effects of FS management activities.

Topic 2—Managed Recreation

The 1985 plan does not clearly and specifically address issues related to recreation and scenic resources that play a vital role in supporting social and economic sustainability on the National Grasslands. The new plan needs to provide direction that is more specific to the Grasslands relative to management of motorized, dispersed and developed recreation opportunities, areas of high scenic quality and assessment and possible designation of special areas. Relevant law, policy, regulation and other FS direction developed since 1985 also needs to be incorporated by reference into the new plan, and redundancies removed.

• The demand for day-hiking, particularly on scenic and interpretive trails, continues to increase on the National Grasslands. The new plan needs to provide more direction on management of dispersed recreation.

• There are components of the 1985 plan which are redundant with existing FS Handbook and Manual direction. Redundancies will be absent from the new plan, and current Handbook and Manual direction will be incorporated by specific reference.

• There is a need for the revised plan to reflect and support direction from the implementation of the Travel Management Rule. The new National Grasslands plan is being developed concurrently with the Travel Management Study EA for the Kiowa and Rita Blanca National Grasslands, but the new plan will not be pre-decisional to the findings of the EA or the resultant motor vehicle use map.

• There is a need for the new plan to provide direction to manage for recreation opportunities in a variety of different settings and levels of development, from large, developed recreation settings with many facilities, to primitive settings.

• There is a need for the new plan to provide direction that management of scenic resources be based on objectives for specific areas, particularly those areas identified as having high scenic quality.

• Plan direction addressing opportunities for visiting, touring, and enjoying guided and interpretive activities related to unique scenery, historic/cultural sites, wildlife, and formally-designated sites (such as eligible Wild and Scenic Rivers, Historic Trails and Scenic Byways) needs to be included in the new plan.

• The development of the new plan will assess the need for additional special area designations such as potential wilderness, an eligible Wild and Scenic River, or potential research natural areas (RNA) and provide direction.

Topic 3—Human Influences on the National Grasslands

The 1985 plan does not provide adequate direction to the National Grasslands regarding the management and monitoring of livestock grazing; the placement, maintenance or rehabilitation of energy development sites; the use of planned or unplanned fire; nor the allowance of special uses (i.e., mineral extraction, utility corridors, fuelwood harvesting, research activities). There are also many components of the 1985 plan which duplicate existing FS Handbook and Manuel direction. The new plan should provide direction for management of these land uses and economic opportunities:

• The new plan needs to provide management direction to the livestock grazing program that incorporates adaptive management toward ecosystem-based desired conditions.

• Because of increasing interest in alternative energy enterprises such as wind farms in the proximity of the National Grasslands, the new plan needs to provide direction for guiding energy development on the National Grasslands, while protecting natural resources, heritage sites and scenery.

• There is a need to provide direction in the new plan for the rehabilitation of disturbed sites, such as oil and gas pads and roads, after operations have ceased, in order to protect soil productivity and re-establish vegetative cover.

• The new plan needs to provide direction to the process of obtaining legal road access to National Grassland units, access that meets public, private landowner and management needs.

• Because of the projected increase and changes in the type of energy developments in the region and the land ownership pattern of the National Grasslands, the new plan needs to provide direction on the permitting of utility easements and related special uses.

• There are many special uses of the National Grasslands that provide economic support to local communities. The new plan needs to provide direction for accommodating the removal of miscellaneous products for commercial, non-commercial and Tribal use, such as wood products, plants, grass seed, or other materials.

• The new plan needs to provide direction on the non-commercial use of common mineral materials, so that resources can be adequately protected.

• The new plan should provide direction on the management of firewood and fuelwood harvesting and gathering on the National Grasslands.

• There is a need for the new plan to provide direction on opportunities to conduct research on the National Grasslands, regardless of whether a research natural area is established.

• The checkerboard pattern of the National Grassland units and private land, along with the types of fuels found on the National Grasslands, create a fire environment which is very different from forests of the intermountain west. The new plan needs to provide direction for applying management strategies for responding to wildland fires and using prescribed fire on National Grassland units to avoid loss of life or significant property damage.

• The new plan needs to provide updated direction on the stabilization and preservation of historic structures and Traditional Cultural Properties. The new plan should also provide direction on the role of heritage sites in economic development.

Public Involvement

Extensive public involvement and collaboration related to revising the National Grasslands plan has already occurred and is ongoing. Informal discussions with the public regarding needed changes to the 1985 plan began with a series of public meetings in 2006. This input, along with science-based evaluations, was used to determine the needs for change identified above. Additional meetings, correspondence, news releases, comment periods, and other tools have been utilized to gather feedback from the public, forest employees, Tribal governments, Federal and State agencies, and local governments. The most recent public involvement was a series of public meetings held in March 2009 to solicit input and comment on potential desired conditions, which had been developed based upon previous public collaboration. The Forest desires to continue collaborative efforts with members of the public who are interested in the National Grasslands management, as well as Native American Tribes, Federal and State agencies, local governments, and private organizations.

Future public meetings to gather input on the working draft plan and potential alternatives are tentatively scheduled for late winter or spring 2010. The dates, times, and locations of these meetings will be posted on the Forest's Web site: http://www.fs.fed.us/r3/cibola/plan-revision/national_grasslands/index.shtml.

The information gathered at these meetings will help guide the development of the draft plan and draft EIS. Once the draft plan and draft EIS are compiled and released (tentatively scheduled for September 2010), members of the public will have 45 days to submit comments. After consideration of comments, a final proposed plan and final EIS will be released in early 2011. We anticipate using the 2000 planning rule pre-decisional objection process (36 CFR 219.32) for administrative review.

At this time, the Cibola National Forest is seeking input on the need for change and the proposed action to develop a new National Grasslands-specific plan: Did we miss any substantive issues or concerns? It is important that reviewers provide their comments at such times and in such a way that they are useful to the Agency's preparation of the revised plan and the EIS. Therefore, comments on the proposed action (need for a new plan) and needs for change will be most valuable if received by February 15, 2010, and should clearly articulate the reviewer's concerns. The submission of timely and specific comments can affect a reviewer's ability to participate in subsequent administrative or judicial review.

Comments received in response to this solicitation, including the names and addresses of those who comment will be part of the public record. Comments submitted anonymously will be accepted and considered.

Applicable Planning Rule

Preparation of the new plan was underway when the 2008 National Forest System land management planning rule was enjoined on June 30, 2009, by the United States District Court for the Northern District of California (Citizens for Better Forestry v. United States Department of Agriculture, 632 F. Supp. 2d 968 (N.D. Cal. June 30, 2009)). On December 18, 2009, the Department reinstated the previous planning rule, commonly known as the 2000 planning rule in the Federal Register (Federal Register, Volume 74, No. 242, Friday, December 18, 2009, pages 67059 through 67075). The transition provisions of the reinstated rule (36 CFR 219.35 and appendices A and B) allow use of the provisions of the National Forest System land and resource management planning rule in effect prior to the effective date of the 2000 Rule (November 9, 2000), commonly called the 1982 planning rule, to amend or revise plans. The Cibola National Forest has elected to use the provisions of the 1982 planning rule, including the requirement to prepare an EIS, to complete its plan revision. Prior to the enjoinment of the 2008 planning rule, the National Grasslands had been working to revise the 1985 plan. Informal revision efforts began in the summer of 2006, with collaborative discussions regarding the need to change the plan.

A formal Notice of Initiation to revise the forest plan was published on September 19, 2008, in the Federal Register, Vol. 73, No. 183, p. 54363. That notice also requested review on the CER, the Ecological Sustainability Report, and the Socio-economic Assessment (documents that provide evaluations of social, economic, and ecological conditions and trends in and around the forest).

The Forest had begun collaborative development of forest plan components during the fall of 2008. The latest set of plan components, the Working Draft Land Management Plan, will be made available for review and comment in the spring of 2010. The CER was further supplemented in December 2009 to conform to the Need for Change AMS requirements of the 1982 rule provisions. The needs for change previously identified in the CER have been verified by this supplementary information; no new needs for change were identified.

Although the 2008 planning rule is no longer in effect, information gathered prior to the court's injunction is useful for completing the plan revision using the provisions of the 1982 planning rule. The Cibola National Forest has concluded that the following material developed during the plan revision process to date is appropriate for continued use in the revision process:

• The CER was completed in September 2008. It forms the basis for need to change the existing Forest Plan and the proposed action for the plan revision to develop a National Grasslands-specific plan.

• The Kiowa, Rita Blanca, Black Kettle and McClellan Creek National Grasslands CER Supplementary Document to meet AMS Requirements, December 2009 (as described above).

• The Ecological Sustainability Report (ESR) that was completed in August, 2008 will continue to be used as a reference in the planning process as appropriate to those items in conformance with the 2000 planning rule transition language and 1982 planning rule provisions. This is scientific information and is not affected by the change of planning rule. This information will be updated with any new available information.

• The Socio-economic Sustainability Report that was completed in August 2008 is not affected by the change in planning rule and will continue to be used as a reference in the planning process. This information will be updated with any new available information.

• The Kiowa National Grassland Potential Wilderness Evaluation Report for the Canadian River Potential Wilderness Area, completed in October 2008.

• USDA FS, Southwestern Region, Mid-Scale Vegetation Analysis, June 2009 (BKMC NG); November 2009 (KRB NG); an inventory of current vegetation conditions.

• USDA FS, Southwestern Region, Potential Natural Vegetation Types, 2008. A simulation of vegetation inventory pre-European settlement, which functions as the reference condition for current analysis.

• USDA Cibola National Forest, Kiowa and Rita Blanca National Grasslands, Geographic Area Assessments, v. 1, 1999.

• USDA Cibola National Forest, Black Kettle and McClellan Creek National Grasslands, Geographic Area Assessments, v. 1, 2000.

All of the above described documents are either available on the Forest's Web site: http://www.fs.fed.us/r3/cibola/plan-revision/national_grasslands/index.shtml or by contacting the Cibola National Forest at the address provided in the Address section of this notice.

As necessary or appropriate, the above listed material will be further adjusted as part of the planning process using the provisions of the 1982 planning rule.

Authority: 16 U.S.C. 1600-1614; 36 CFR 219.35 (74 FR 67073-67074).

Dated: January 11, 2010.
Nancy Rose,
Forest Supervisor.

[FR Doc. 2010-689 Filed 1-14-10; 8:45 am]

BILLING CODE 3410-11-P